DEPARTMENT OF ENERGY

Federal Energy Regulatory Commission

[Docket No. EG01-123-000, et al.]

PSEG Lawrenceburg Energy Company LLC, et al.; Electric Rate and Corporate Regulation Filings

February 13, 2001.

Take notice that the following filings have been made with the Commission:

1. PSEG Lawrenceburg Energy Company LLC

[Docket No. EG01-123-000]

Take notice that on February 9, 2001, PSEG Lawrenceburg Energy Company LLC (Applicant), with its principal office at 80 Park Plaza, Newark, New Jersey 07102, filed with the Federal Energy Regulatory Commission an application for determination of exempt wholesale generator status pursuant to Part 365 of the Commission's regulations.

Applicant is a Delaware limited liability company. Applicant will be engaged directly, or indirectly through a Section 2(a)(11)(B) affiliate, and exclusively in owning and operating an 1150 MW natural gas-fired generating facility and certain interconnection facilities necessary to effect the sale of electric energy at wholesale located in Dearborn County, Indiana; selling electric energy at wholesale; and engaging in project development activities with respect thereto.

Comment date: March 6, 2001, in accordance with Standard Paragraph E at the end of this notice. The commission will limit its consideration of comments to those that concern the adequacy or accuracy of the application.

2. PSEG Waterford Energy LLC

[Docket No. EG01-124-000]

Take notice that on February 8, 2001, PSEG Waterford Energy LLC (Applicant), with its principal office at 80 Park Plaza, Newark, New Jersey 07102, filed with the Federal Energy Regulatory Commission an application for determination of exempt wholesale generator status pursuant to Part 365 of the Commission's regulations.

Applicant is a Delaware limited liability company. Applicant will be engaged directly, or indirectly through a Section 2(a)(11)(B) affiliate, and exclusively in owning and operating an 850 MW natural gas-fired generating facility and certain interconnection facilities necessary to effect the sale of electric energy at wholesale located in Washington County, Ohio; selling electric energy at wholesale; and engaging in project development activities with respect thereto.

Comment date: March 6, 2001, in accordance with Standard Paragraph E at the end of this notice. The commission will limit its consideration of comments to those that concern the adequacy or accuracy of the application.

3. Montaup Electric Company v. Boston Edison Company

[Docket Nos. EL99-42-000 and EL99-42-003]

Take notice that on February 6, 2001, Boston Edison Company, tendered for filing a refund report as required by the Commission's December 13, 2000 order in this proceeding, as corrected by its January 5, 2001 Erratum.

Copies of the filing were served upon the parties in this proceeding and the Massachusetts Department of Telecommunications and Energy.

Comment date: March 8, 2001, in accordance with Standard Paragraph E at the end of this notice.

4. Morgan Stanley Capital Group, Inc. v. New York Independent System Operator, Inc.

[Docket No. EL00-90-000]

Take notice that on February 2, 2001 the New York Independent System Operator, Inc. (NYISO), filed a report on its implementation of virtual bidding and zonal price capped load bidding in compliance with the Commission's October 5, 2000 order in the above-captioned proceeding. Morgan Stanley Capital Group, Inc. v. New York Independent System Operator, Inc., 93 FERC ¶ 61,017 (2000).

A copy of this filing was served upon all parties in Docket No. EL00-90-000.

Comment date: March 5, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 01-4190 Filed 2-20-01; 8:45 am]

BILLING CODE 6717-01-U